ENVIRONMENTAL PROTECTION AGENCY

[ER-FRL-9056-2]

Environmental Impact Statements; Notice of Availability

Responsible Agency: Office of Federal Activities, General Information 202-564-5632 or https://www.epa.gov/nepa.

Weekly receipt of Environmental Impact Statements (EIS)

Filed April 12, 2021 10 a.m. EST Through April 19, 2021 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20210041, Draft Supplement, CHSRA, CA, California High-Speed Rail San Jose to Merced Project Section Revised Draft Environmental Impact Report/Supplemental Draft Environmental Impact Statement, Comment Period Ends: 06/07/2021, Contact: Scott Rothenberg 916-403-6936.

EIS No. 20210042, Draft Supplement, FHWA, NH, Newington-Dover, General Sullivan Bridge Spaulding Turnpike Improvements Project, Comment Period Ends: 06/07/2021, Contact: Jamie Sikora 603-410-4870.

Amended Notice

EIS No. 20210025, Draft, USACE, LA, Proposed Mid-Barataria Sediment Diversion Project in Plaquemines Parish, Louisiana, Comment Period Ends: 06/03/2021, Contact: Brad Laborde 504-862-2225. Revision to FR Notice Published 03/05/2021; Extending the Comment Period from 05/04/2021 to 06/03/2021.

Dated: April 19, 2021.
Cindy S. Barger,
Director, NEPA Compliance Division, Office of Federal Activities.

[FR Doc. 2021-08491 Filed 4-22-21; 8:45 am]

BILLING CODE 6560-50-P